DEPARTMENT OF LABOR

Employment and Training Administration

[NAFTA-03969]

UFE, Incorporated; El Paso, TX Notice of Termination of Investigation

Pursuant to Title V of the North American Free Trade Agreement Implementation Act and in accordance with Section 250(a), Subchapter D, Chapter 2, Title II of the Trade Act of 1974, as amended (19 U.S.C. 2331), an investigation was initiated on June 5, 2000, on behalf of workers at UFE, Incorporated, El Paso, Texas.

The three signatories were not employed by the subject firm as identified. Thus, this investigation has been terminated.

Signed in Washington, D.C. this 23rd day of August 2000.
Grant D. Beale,
Program Manager, Division of Trade Adjustment Assistance.

[FR Doc. 00-22757 Filed 9-5-00; 8:45 am]

BILLING CODE 4510-30-M